SECURITIES AND EXCHANGE COMMISSION

[Release No. IC-28255]

Notice of Applications for Deregistration Under Section 8(f) of the Investment Company Act of 1940

April 25, 2008.

The following is a notice of applications for deregistration under section 8(f) of the Investment Company Act of 1940 for the month of April, 2008. A copy of each application may be obtained for a fee at the SEC's Public Reference Branch (tel. 202-551-5850). An order granting each application will be issued unless the SEC orders a hearing. Interested persons may request a hearing on any application by writing to the SEC's Secretary at the address below and serving the relevant applicant with a copy of the request, personally or by mail. Hearing requests should be received by the SEC by 5:30 p.m. on May 20, 2008, and should be accompanied by proof of service on the applicant, in the form of an affidavit or, for lawyers, a certificate of service. Hearing requests should state the nature of the writer's interest, the reason for the request, and the issues contested. Persons who wish to be notified of a hearing may request notification by writing to the Secretary, U.S. Securities and Exchange Commission, 100 F Street, NE., Washington, DC 20549-1090.

For Further Information Contact: Diane L. Titus at (202) 551-6810, SEC, Division of Investment Management, Office of Investment Company Regulation, 100 F Street, NE., Washington, DC 20549-4041.

Dean Family of Funds [File No. 811-7987]

Summary: Applicant seeks an order declaring that it has ceased to be an investment company. On March 30, 2007, applicant transferred its assets to Dean Large Cap Value Fund, Dean Small Cap Value Fund, and Dean International Fund, each a series of Unified Series Trust, based on net asset value. Expenses of $131,162 incurred in connection with the reorganization were paid by Unified Fund Services, applicant's transfer agent, and Dean Investment Associates, applicant's investment adviser.

Filing Dates: The application was filed on March 5, 2008, and amended on April 22, 2008.

Applicant's Address: 2480 Kettering Tower, Dayton, OH 45423.

Templeton Russia/Eurasia Fund [File No. 811-8409]

Summary: Applicant, a closed-end investment company, seeks an order declaring that it has ceased to be an investment company. Applicant has never made a public offering of its securities and does not propose to make a public offering or engage in business of any kind.

Filing Date: The application was filed on April 4, 2008.

Applicant's Address: 500 East Broward Blvd., Suite 2100, Ft. Lauderdale, FL 33394.

Scudder Intermediate Government & Agency Trust [File No. 811-5539]

Summary: Applicant, a closed-end investment company, seeks an order declaring that it has ceased to be an investment company. On July 29, 2005, applicant transferred its assets to DWS Strategic Government Securities Fund (formerly, DWS U.S. Government Securities Fund and Scudder U.S. Government Securities Fund), based on net asset value. Expenses of $180,000 incurred in connection with the reorganization were paid by applicant.

Filing Date: The application was filed on April 10, 2008.

Applicant's Address: 222 South Riverside Plaza, Chicago, IL 60606.

Seligman New Technologies Fund II, Inc. [File No. 811-9849]

Summary: Applicant, a closed-end investment company, seeks an order declaring that it has ceased to be an investment company. On February 14, 2008 and February 19, 2008, applicant made liquidating distributions to its shareholders, based on net asset value. Expenses of $259,300 incurred in connection with the liquidation were paid by applicant. Applicant has retained a cash reserve of approximately $57,449 to cover certain unpaid expenses relating to applicant's liquidation and dissolution.

Filing Date: The application was filed on April 11, 2008.

Applicant's Address: 100 Park Ave., New York, NY 10017.

Merrimac Funds [File No. 811-7939]

Summary: Applicant, a feeder fund in a master-feeder structure, seeks an order declaring that it has ceased to be an investment company. On October 30, 2007, applicant made a liquidating distribution to its shareholders, based on net asset value. Expenses of $2,358 incurred in connection with the liquidation were paid by applicant. Applicant has retained $2,260 in cash to pay outstanding accrued expenses of the same amount.

Filing Dates: The application was filed on March 28, 2008, and amended on April 14, 2008.

Applicant's Address: 200 Clarendon St., 16th Floor, Boston, MA 02116.

Dreyfus California Tax Exempt Money Market Fund [File No. 811-4216]

Summary: Applicant seeks an order declaring that it has ceased to be an investment company. On March 16, 2007, applicant transferred its assets to General California Municipal Money Market Fund, based on net asset value. Expenses of $42,390 incurred in connection with the reorganization were paid by The Dreyfus Corporation, applicant's investment adviser.

Filing Date: The application was filed on March 31, 2008.

Applicant's Address: c/o The Dreyfus Corporation, 200 Park Ave., New York, NY 10166.

Merrimac Master Portfolio [File No. 811-7941]

Summary: Applicant, a master fund in a master-feeder structure, seeks an order declaring that it has ceased to be an investment company. On October 30, 2007, applicant made a liquidating distribution to its shareholders, based on net asset value. Expenses of $142,095 incurred in connection with the liquidation were paid by applicant. Applicant has retained $105,682 in cash to pay outstanding accrued expenses of the same amount.

Filing Date: The application was filed on March 28, 2008.

Applicant's Address: 200 Clarendon St., 16th Floor, Boston, MA 02116.

Merrimac Series [File No. 811-8741]

Summary: Applicant, a feeder fund in a master-feeder structure, seeks an order declaring that it has ceased to be an investment company. On October 30, 2007, applicant made a liquidating distribution to its shareholders, based on net asset value. Expenses of $115,988 incurred in connection with the liquidation were paid by applicant. Applicant has retained $80,900 in cash to pay outstanding accrued expenses of the same amount.

Filing Date: The application was filed on March 28, 2008.

Applicant's Address: 200 Clarendon St., 16th Floor, Boston, MA 02116.

First Investors Single Payment and Periodic Payment Plans for the Accumulation of Shares of Vanguard Wellington Fund, Inc. [File No. 811-343]; First Investors Single Payment and Periodic Payment Plans for the Accumulation of Shares of AMCAP Fund, Inc. [File No. 811-636]; First Investors Single Payment and Periodic Payment Plans for the Accumulation of Shares of Fundamental Investors, Inc. [File No. 811-818]

Summary: Each applicant, a unit investment trust, seeks an order declaring that it has ceased to be an investment company. On or about June 19, 2001, January 10, 2007, and January 10, 2007, respectively, each applicant made a liquidating distribution to its unitholders, based on net asset value. Expenses of $1,313, $679, and $1,158, respectively, incurred in connection with each liquidation were paid by First Investors Corporation, applicants' sponsor.

Filing Date: The applications were filed on March 28, 2008.

Applicants' Address: 110 Wall St., New York, NY 10005.

ACM Managed Income Fund, Inc. [File No. 811-5643]

Summary: Applicant, a closed-end investment company, seeks an order declaring that it has ceased to be an investment company. On August 29, 2007, applicant made a liquidating distribution to its shareholders, based on net asset value. Expenses of $100,000 incurred in connection with the liquidation were paid by applicant.

Filing Date: The application was filed on April 2, 2008.

Applicant's Address: 1345 Avenue of the Americas, New York, NY 10105.

Topiary Fund for Benefit Plan Investors (BPI) LLC [File No. 811-21480]; Topiary Master Fund for Benefit Plan Investors (BPI) LLC [File No. 811-21605]

Summary: Each applicant, a closed-end investment company, seeks an order declaring that it has ceased to be an investment company. On September 30, 2007, applicants transferred their assets to Hatteras Multi-Strategy TEI Fund, L.P. and Hatteras Master Fund, L.P., respectively, based on net asset value. Expenses of approximately $130,000 incurred in connection with each reorganization were paid by DB Investment Managers, Inc., applicants' investment adviser.

Filing Dates: The applications were filed on December 26, 2007, and amended on March 27, 2008.

Applicants' Address: DB Investment Managers, Inc., 345 Park Ave., New York, NY 10154.

AllianceBernstein High Yield Fund, Inc. [File No. 811-9160]

Summary: Applicant seeks an order declaring that it has ceased to be an investment company. On January 25, 2008, applicant transferred its assets to AllianceBernstein High Income Fund, Inc. (formerly known as AllianceBernstein Emerging Market Debt Fund, Inc.) (“acquiring fund”), based on net asset value. Expenses of approximately $246,800 incurred in connection with the reorganization were paid by applicant and the acquiring fund.

Filing Dates: The application was filed on February 21, 2008, and amended on April 2, 2008.

Applicant's Address: 1345 Avenue of the Americas, New York, NY 10105.

Dreyfus Connecticut Intermediate Municipal Bond Fund [File No. 811-6642]

Summary: Applicant seeks an order declaring that it has ceased to be an investment company. On May 30, 2007, applicant transferred its assets to a corresponding series of Dreyfus Premier State Municipal Bond Fund, based on net asset value. Expenses of $42,930 incurred in connection with the reorganization were paid by The Dreyfus Corporation, applicant's investment adviser.

Filing Date: The application was filed on March 20, 2008.

Applicant's Address: c/o The Dreyfus Corporation, 200 Park Ave., New York, NY 10166.

For the Commission, by the Division of Investment Management, pursuant to delegated authority.
Florence E. Harmon,
Deputy Secretary.

[FR Doc. E8-9538 Filed 4-30-08; 8:45 am]

BILLING CODE 8010-01-P